FEDERAL COMMUNICATIONS COMMISSION

Sunshine Act Meeting

Open Commission Meeting; Friday, November 21, 2014

The Federal Communications Commission will hold an Open Meeting on the subjects listed below on Friday, November 21, 2014. The meeting is scheduled to commence at 10:30 a.m. in Room TW-C305, at 445 12th Street SW., Washington, DC.

Item No. | Bureau | Subject
1 | MEDIA | TITLE: Amendment of Section 73.1216 of the Commission's Rules Related to Broadcast Licensee-Conducted Contests.
|  | SUMMARY: The Commission will consider a Notice of Proposed Rulemaking to provide broadcasters greater flexibility in their disclosure of contest terms.
2 | WIRELINE COMPETITION | TITLE: Ensuring Customer Premises Equipment Backup Power for Continuity of Communications (PS Docket No. 14-174); Technology Transitions (GN Docket No. 13-5); Amendment of Certain of the Commission's Part 1 Rules of Practice and Procedure and Part 0 Rules of Commission Organization (GC Docket No. 10-44); Policies and Rules Governing Retirement of Copper Loops by Incumbent Local Exchange Carriers (RM-11358); and Special Access for Price Cap Local Exchange Carriers (WC Docket No. 05-25).
|  | SUMMARY: The Commission will consider a Notice of Proposed Rulemaking, Declaratory Ruling, and Order to facilitate the transition to next generation networks by promoting and preserving the Commission's public safety, consumer protection, and competition goals.
3 | PUBLIC SAFETY AND HOMELAND SECURITY | TITLE: 911 Governance and Accountability (PS Docket No. 14-193) and Improving 911 Reliability (PS Docket No. 13-75).
|  | SUMMARY: The Commission will consider a Policy Statement and Notice of Proposed Rulemaking regarding its approach to 911 governance and proposing mechanisms to ensure continued accountability for reliable 911 services as technologies evolve.
4 | INTERNATIONAL | TITLE: ITU Plenipotentiary Conference Presentation.
|  | SUMMARY: The Commission will hear a presentation regarding the 2014 International Telecommunication Union (ITU) Plenipotentiary Conference. The presentation will include a summary of key issues addressed at the Plenipotentiary and the conference outcomes.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission,
Marlene H. Dortch,
Secretary.

[FR Doc. 2014-27568 Filed 11-18-14; 11:15 am]

BILLING CODE 6712-01-P